ENVIRONMENTAL PROTECTION AGENCY

40 CFR Parts 141, 142 and 143

[FRL-7571-8]

RIN 2040-AD38

National Primary Drinking Water Regulations: Stage 2 Disinfectants and Disinfection Byproducts Rule; National Primary and Secondary Drinking Water Regulations: Approval of Analytical Methods for Chemical Contaminants; Extension of Comment Period

AGENCY: Environmental Protection Agency.

ACTION: Extension of comment period.

SUMMARY: The Environmental Protection Agency (EPA) is extending by 60 days the public comment period for a proposed National Primary Drinking Water Regulation, the Stage 2 Disinfectants and Disinfection Byproducts Rule (DBPR), which was published in the Federal Register on August 18, 2003. This extended comment period will afford greater opportunity to all interested parties to review and submit comments on the proposal.

DATES: Comments must be received on or before January 16, 2004.

ADDRESSES: Comments may be submitted by mail to: Water Docket, Environmental Protection Agency, Mail Code 4101T, 1200 Pennsylvania Ave., NW., Washington, DC 20460, Attention Docket ID No. OW-2002-0043. Comments may also be submitted electronically or through hand delivery/courier by following the instructions provided in the SUPPLEMENTARY INFORMATION section.

FOR FURTHER INFORMATION CONTACT: For technical inquiries, contact Tom Grubbs, Office of Ground Water and Drinking Water (MC 4607M), U.S. Environmental Protection Agency, 1200 Pennsylvania Ave., NW., Washington, DC 20460; telephone (202) 564-5262. For general information contact the Safe Drinking Water Hotline, Telephone (800) 426-4791. The Safe Drinking Water Hotline is open Monday through Friday, excluding legal holidays, from 9 a.m. to 5:30 p.m., eastern standard time.

SUPPLEMENTARY INFORMATION: The comment period for the proposed Stage 2 DBPR now ends January 16, 2004. This is an extension of 60 days beyond the comment period established in the Federal Register on August 18, 2003. Anyone seeking to submit comments must follow the procedures specified in section I.C. of the proposal as published in the Federal Register (68 FR 49548, August 18, 2003).

The Stage 2 DBPR applies to all public water systems that add a disinfectant other than ultraviolet light. This proposed regulation would establish revised procedures for monitoring and determining compliance with the maximum contaminant levels for trihalomethanes and haloacetic acids. It contains specific provisions for consecutive systems. See the proposal as published in the Federal Register (68 FR 49548, August 18, 2003) for information regarding public health concerns, proposed regulatory requirements, implementation schedules, estimated costs and benefits, implementation tools, and other issues.

Dated: October 2, 2003.
Michael H. Shapiro,
Deputy Assistant Administrator, Office of Water.

[FR Doc. 03-25547 Filed 10-7-03; 8:45 am]

BILLING CODE 6560-50-P